DEPARTMENT OF THE INTERIOR

National Park Service

Notice of Inventory Completion: Central Washington University, Department of Anthropology, Ellensburg, WA, and Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the control of the Central Washington University, Department of Anthropology, Ellensburg, WA, and the Thomas Burke Memorial Washington State Museum (Burke Museum), University of Washington, Seattle, WA. The human remains were removed from King County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Burke Museum and Central Washington University professional staff in consultation with representatives of the Muckleshoot Indian Tribe of the Muckleshoot Reservation, Washington; Puyallup Tribe of the Puyallup Reservation, Washington; Sauk-Suiattle Indian Tribe of Washington; Snoqualmie Tribe, Washington; Suquamish Indian Tribe of the Port Madison Reservation, Washington; and Tulalip Tribes of the Tulalip Reservation, Washington.

In 1920, human remains representing a minimum of one individual were removed from a Georgetown neighborhood along the Duwamish River in Seattle, King County, WA. The remains were removed by T.H. Vincent and transferred to the King County Coroner's Office. In 1920, the human remains were subsequently transferred to the Burke Museum (Burke Accn. #1800). In 1974, the Burke Museum staff legally transferred elements associated with the individual to Central Washington University (CWU ID AS). No known individual was identified. No associated funerary objects are present.

In 1924, human remains representing a minimum of two individuals were removed from Fauntleroy Park in King County, WA, by Mr. Hall. The remains were uncovered by a steam shovel while widening the road. Mr. Hall transferred the human remains to the King County Coroner's Office. They were subsequently transferred to the Burke Museum later that same year (Burke Accn. #2056). In 1974, the Burke Museum staff legally transferred elements associated with the individuals to Central Washington University (CWU ID AS). No known individuals were identified. No associated funerary objects are present.

The above-mentioned human remains have been determined to be Native American based on a variety of sources, including archeological and biological evidence. The human remains were determined to be consistent with Native American morphology as evidenced either through cranial deformation, bossing of the cranium, presence of wormian bones, or shovel shaped incisors. Information available in the original accession files helped affirm these determinations.

The above-mentioned sites fall within the Southern Lushootseed language group of Salish cultures. The Duwamish people primarily occupied this area (Ruby and Brown 1986:72). As per the terms of the 1855 Point Elliot Treaty, the Duwamish were assigned to the Suquamish Reservation (called Fort Kitsap at the time). After 1856, due to violence between whites and Native Americans, as well as the competition over available resources, many Duwamish left the Suquamish Reservation. The Indian agent subsequently assigned them to the Muckleshoot Reservation. The Duwamish people are represented by the following present-day tribes: the Muckleshoot Indian Tribe of the Muckleshoot Reservation, Washington; Snoqualmie Tribe, Washington; Suquamish Indian Tribe of the Port Madison Reservation, Washington; and Tulalip Tribes of the Tulalip Reservation, Washington.

Officials of the Burke Museum and Central Washington University have determined that, pursuant to 25 U.S.C. 3001 (9-10), the human remains listed above represent the physical remains of three individuals of Native American ancestry. Officials of the Burke Museum and Central Washington University have also determined that, pursuant to 25 U.S.C. 3001 (2), there is a relationship of shared group identity that can be reasonably traced between the Native American human remains and the Muckleshoot Indian Tribe of the Muckleshoot Reservation, Washington; Snoqualmie Tribe, Washington; Suquamish Indian Tribe of the Port Madison Reservation, Washington; and Tulalip Tribes of the Tulalip Reservation, Washington.

Representatives of any other Indian tribe that believes itself to be culturally affiliated with the human remains should contact Lourdes Henebry-DeLeon, NAGPRA Program Director, Department of Anthropology, Central Washington University, Ellensburg, WA 98926-7544, telephone (509) 963-2671 or Dr. Peter Lape, Burke Museum, University of Washington, Box 353010, Seattle, WA 98195-3010, telephone (206) 685-3849, before April 26, 2010. Repatriation of the human remains to the Muckleshoot Indian Tribe of the Muckleshoot Reservation, Washington; Snoqualmie Tribe, Washington; Suquamish Indian Tribe of the Port Madison Reservation, Washington; and Tulalip Tribes of the Tulalip Reservation, Washington may proceed after that date if no additional claimants come forward.

The Burke Museum is responsible for notifying the Muckleshoot Indian Tribe of the Muckleshoot Reservation, Washington; Puyallup Tribe of the Puyallup Reservation, Washington; Sauk-Suiattle Indian Tribe of Washington; Snoqualmie Tribe, Washington, Suquamish Indian Tribe of the Port Madison Reservation, Washington; and Tulalip Tribes of the Tulalip Reservation, Washington that this notice has been published.

Dated: March 3, 2010
Sherry Hutt,
Manager, National NAGPRA Program.

[FR Doc. 2010-6575 Filed 3-24-10; 8:45 am]

BILLING CODE 4312-50-S